GENERAL SERVICES ADMINISTRATION

48 CFR Parts 501, 549, and 552

[GSAR Case 2008-G515; Docket 2008-0007; Sequence 17]

RIN 3090-AI62

General Services Acquisition Regulation; GSAR Case 2008-G515; Rewrite of GSAR Part 549, Termination of Contracts

AGENCY: Office of the Chief Acquisition Officer, General Services Administration (GSA).

ACTION: Proposed rule.

SUMMARY: The General Services Administration (GSA) is proposing to amend the General Services Acquisition Regulation (GSAR) to revise language that provides requirements for termination of contracts.

DATES: Interested parties should submit written comments to the Regulatory Secretariat on or before October 14, 2008 to be considered in the formulation of a final rule.

ADDRESSES: Submit comments identified by GSAR Case 2008-G515 by any of the following methods:

• Regulations.gov: http://www.regulations.gov. Submit comments via the Federal eRulemaking portal by inputting “GSAR Case 2008-G515” under the heading “Comment or Submission”. Select the link “Send a Comment or Submission” that corresponds with GSAR Case 2008-G515. Follow the instructions provided to complete the “Public Comment and Submission Form”. Please include your name, company name (if any), and “GSAR Case 2008-G515” on your attached document.

• Fax: 202-501-4067.

• Mail: General Services Administration, Regulatory Secretariat (VPR), 1800 F Street, NW, Room 4041, ATTN: Laurieann Duarte, Washington, DC 20405.

Instructions: Please submit comments only and cite GSAR Case 2008-G515 in all correspondence related to this case. All comments received will be posted without change to http://www.regulations.gov, including any personal and/or business confidential information provided.

FOR FURTHER INFORMATION CONTACT: For clarification of content, contact Ms. Jeritta Parnell at (202) 501-4082, or by e-mail at jeritta.parnell@gsa.gov. For information pertaining to the status or publication schedules, contact the Regulatory Secretariat (VPR), Room 4041, GS Building, Washington, DC 20405, (202) 501-4755. Please cite GSAR Case 2008-G515.

SUPPLEMENTARY INFORMATION:

A. Background

The General Services Administration (GSA) is amending the General Services Administration Acquisition Regulation (GSAR) to delete two outdated clauses and the prescriptions for the two clauses. This proposed rule is a result of the General Services Administration Acquisition Manual (GSAM) rewrite initiative. The initiative was undertaken by GSA to revise the GSAM so as to maintain consistency with the FAR and implement streamlined and innovative acquisition procedures that contractors, offerors, and GSA contracting personnel can use when entering into and administering contractual relationships. The GSAM incorporates the General Services Administration Acquisition Regulation (GSAR) as well as internal agency acquisition policy.

GSA will rewrite each part of the GSAR and GSAM, and as each GSAR part is rewritten, GSA will publish it in the Federal Register.

This proposed rule revises GSAR Part 549 by deleting the prescriptive language at section 549.502 for two outdated clauses. The clause at 552.249-70, Termination for Convenience of the Government (Fixed Price) (Short Form), and the clause at 552.249-71, Submission of Termination Liability Schedule, are being deleted. These are two GSA-unique clauses for acquisition and maintenance of telephone systems funded through the Information Technology (IT) Fund. This fund no longer exists. These clauses are obsolete.

Discussion of Comments

There were no comments received in response to the “Advanced Notice of Proposed Rulemaking” at 71 FR 7910, February 15, 2006, pertaining to this GSAR Part 549.

This is not a significant regulatory action and, therefore, was not subject to review under Section 6(b) of Executive Order 12866, Regulatory Planning and Review, dated September 30, 1993. This rule is not a major rule under 5 U.S.C. 804.

B. Regulatory Flexibility Act

The General Services Administration does not expect this proposed rule to have a significant economic impact on a substantial number of small entities within the meaning of the Regulatory Flexibility Act, 5 U.S.C. 601, et seq., because the revisions are not considered substantive. The revisions delete obsolete coverage. An Initial Regulatory Flexibility Analysis has, therefore, not been performed. We invite comments from small businesses and other interested parties. GSA will consider comments from small entities concerning the affected GSAR Parts 501, 549, and 552 in accordance with 5 U.S.C. 610. Interested parties must submit such comments separately and should cite 5 U.S.C. 601, et seq. (GSAR case 2008-G515), in correspondence.

C. Paperwork Reduction Act

The Paperwork Reduction Act does not apply because the proposed changes to the GSAM do not impose information collection requirements that require the approval of the Office of Management and Budget under 44 U.S.C. 3501, et seq.

List of Subjects in 48 CFR Parts 501, 549, and 552

Government procurement.

Dated: August 6, 2008.
Al Matera,
Director, Office of Acquisition Policy.

Therefore, GSA proposes to amend 48 CFR parts 501, 549 and 552 as set forth below:

PART 501—GENERAL SERVICES ADMINISTRATION ACQUISITION REGULATION SYSTEM

1. The authority citation for 48 CFR part 501 continues to read as follows:

Authority: 40 U.S.C. 121(c).

501.106 [Amended]

2. Amend section 501.106 by removing the GSAR Reference “549.502(b)” and corresponding OMB Control Number “3090-0027”; and removing the GSAR Reference “552.249-71” and corresponding OMB Control Number “3090-0227”.

PART 549—TERMINATION OF CONTRACTS

3. The authority citation for 48 CFR part 549 is revised to read as follows:

Authority: 40 U.S.C. 121(c).

549.5 [Removed]

4. Remove subpart 549.5.

549.502 [Removed]

5. Remove section 549.502.

PART 552—SOLICITATION PROVISIONS AND CONTRACT CLAUSES

6. The authority citation for 48 CFR part 552 continues to read as follows:

Authority: 40 U.S.C. 121(c).

552.249-70 and 552.249-71 [Removed]

7. Remove sections 552.249-70 and 552.249-71.

[FR Doc. E8-18722 Filed 8-12-08; 8:45 am]

BILLING CODE 6820-61-S